OFFICE OF MANAGEMENT AND BUDGET

Audits of States, Local Governments, and Non-Profit Organizations; Circular A-133 Compliance Supplement

AGENCY: Executive Office of the President, Office of Management and Budget.

ACTION: Notice of availability of the 2005 Circular A-133 Compliance Supplement.

SUMMARY: This notice announces the availability of the Compliance Supplement (Supplement) for 2005. The Single Audit Act Amendments of 1996 and OMB Circular A-133 provide for the Office of Management and Budget to issue a compliance supplement to assist auditors in performing the required audits under Circular A-133, Audits of States, Local Governments, and Non-Profit Organizations. Annually, OMB works with the Federal agencies to update the program objectives, procedures and key compliance requirements which the Federal Government expects to be considered in single audits of federal programs. For 2005, the updates include new or significantly changed programs in Parts 4, those parts of the Supplement that relate to the Part 4 changes and updated appendices. The 2005 Supplement updates amend the 2004 Supplement and should be used in conjunction with the 2004 Supplement to perform audits for fiscal years beginning after June 30, 2004.

In summary, the 2005 Supplement updates include the following:

• Updated Table of Contents.

• Updated Parts 1 and 2.

• Six new programs.

• A re-write of 10 programs with significant changes.

• Two deleted programs.

• Updated appendices III, IV and V.

• A listing of minor changes for 28 programs (Appendix V).

A complete list of changes from the 2004 Supplement can be found at Appendix V of the 2005 Supplement. Due to its length, the 2005 Supplement updates are not included in this notice but are available on the OMB Web site at (http://www.whitehouse.gov/omb/circulars/a133-compliance/05/05toc.html) or in hard copy from the Government Printing Office (see ADDRESSES for information about how to obtain a copy). This notice also offers interested parties an opportunity to comment on the 2005 Supplement updates.

DATES: The 2005 Supplement will apply to audits performed under OMB Circular A-133, Audits of States, Local Governments, and Non-Profit Organizations, for fiscal years beginning after June 30, 2004 and amends the 2004 Supplement. All comments on the 2005 Supplement must be in writing and received by October 30, 2005. Late comments will be considered to the extent practicable.

ADDRESSES: Copies of the 2005 Supplement updates may be purchased at any Government Printing Office (GPO) bookstore. The main GPO bookstore is located at 710 North Capitol Street, NW., Washington, DC 20401, (202) 512-0132. A copy may also be obtained under the “Grants Management” heading from the OMB home page on the Internet, which is located at http://www.omb.gov/, and then select “Circulars—Audit Requirements—A-133.”

Due to potential delays in OMB's receipt and processing of mail sent through the U.S. Postal Service, we encourage respondents to submit comments electronically to ensure timely receipt. We cannot guarantee that comments mailed will be received before the comment closing date.

Electronic mail comments may be submitted to Hai_M._Tran@omb.eop.gov. Please include “A-133 Compliance Supplement Updates-2005” in the subject line and the full body of your comments in the text of the electronic message and as an attachment. Please include your name, title, organization, postal address, telephone number, and e-mail address in the text of the message. Comments may also be submitted via facsimile to 202-395-3952.

Comments may be mailed to Gilbert Tran, Office of Federal Financial Management, Office of Management and Budget, Room 6025, New Executive Office Building, Washington, DC 20503.

FOR FURTHER INFORMATION CONTACT: Recipients should contact their cognizant or oversight agency for audit, or Federal awarding agency, as appropriate under the circumstances. Subrecipients should contact their pass-through entity. Federal agencies should contact Gilbert Tran, Office of Management and Budget, Office of Federal Financial Management, telephone (202) 395-3052.

Linda M. Combs,
Controller.

[FR Doc. 05-14090 Filed 7-15-05; 8:45 am]

BILLING CODE 3110-01-P